ENVIRONMENTAL PROTECTION AGENCY

[EPA-HQ-OW-2020-0026; FRL-10010-31-OW]

Notice of Recent Specifications Review and Request for Information on WaterSense Program; Extension of Comment Period

AGENCY: Environmental Protection Agency (EPA).

ACTION: Notice; request for information; extension of comment period.

SUMMARY: The U.S. Environmental Protection Agency (EPA) is extending the comment period for the document issued in the Federal Register on April 10, 2020, entitled “Notice of Recent Specifications Review and Request for Information on WaterSense Program.” In response to stakeholder requests, the EPA is extending the comment period an additional 45 days from June 9, 2020 to July 24, 2020. Please note changes for public visitors to the EPA Docket Center and Reading Room in the Public Participation section of this document.

DATES: The comment period for the document that published on April 10, 2020, at 85 FR 20268 is extended. Comments must be received on or before July 24, 2020.

ADDRESSES: You may send comments, identified by Docket ID No. EPA-HQ-OW-2020-0026, by the following method:

• Federal eRulemaking Portal: https://www.regulations.gov/. Follow the online instructions for submitting comments.

Instructions: All submissions received must include the Docket ID No. EPA-HQ-OW-2020-0026. Comments received may be posted without change to https://www.regulations.gov/, including any personal information provided. For detailed instructions on sending comments, see the Public Participation under the SUPPLEMENTARY INFORMATION section of this document.

Out of an abundance of caution for members of the public and our staff, the EPA Docket Center and Reading Room was closed to public visitors on March 31, 2020, to reduce the risk of transmitting COVID-19. Our Docket Center staff will continue to provide remote customer service via email, phone, and webform. We encourage the public to submit comments via https://www.regulations.gov or email, as there is a temporary suspension of mail delivery to EPA, and no hand deliveries are currently accepted. For further information on EPA Docket Center services and the current status, please visit us online at https://www.epa.gov/dockets.

FOR FURTHER INFORMATION CONTACT: For additional information, please contact Stephanie Tanner, Office of Water (mail code 4204M), Environmental Protection Agency, 1200 Pennsylvania Avenue NW, Washington, DC 20460; telephone number: 202-564-2660; or email: Tanner.Stephanie@epa.gov (preferred). Also see the following website for additional information on this topic: https://www.epa.gov/watersense/product-specification-review.

SUPPLEMENTARY INFORMATION:

I. Public Participation

Submit your comments, identified by Docket ID No. EPA-HQ-OW-2020-0026 via the https://www.regulations.gov. Follow the online instructions for submitting comments. Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

The EPA is temporarily suspending its Docket Center and Reading Room for public visitors to reduce the risk of transmitting COVID-19. Written comments submitted by mail are temporarily suspended and no hand deliveries will be accepted. Our Docket Center staff will continue to provide remote customer service via email, phone, and webform. We encourage the public to submit comments via https://www.regulations.gov. For further information and updates on EPA Docket Center services, please visit us online at https://www.epa.gov/dockets.

The EPA continues to carefully and continuously monitor information from the Centers for Disease Control and Prevention (CDC), local area health departments, and our Federal partners so that we can respond rapidly as conditions change regarding COVID-19.

II. General Information

On April 10, 2020, the EPA published in the Federal Register (85 FR 20268) a request for public comment on any data, surveys, or studies to help assess consumer satisfaction with WaterSense labeled products, which could inform future product specification development. The EPA is also seeking input on how to design a study or studies to inform future reviews that incorporate customer satisfaction considerations. The results of these studies could inform future Agency action when developing criteria for labeling products in the WaterSense program. The EPA is also requesting input on whether it should include consumer satisfaction criteria into the WaterSense program guidelines and, if included, what criteria should be considered and how.

The EPA also announced on April 10th the completion of the review of WaterSense product performance criteria as required under the America's Water Infrastructure Act (AWIA) of 2018. The AWIA required the EPA to consider for review and revision, if necessary, specifications which were released prior to 2012. The EPA announced that it has completed its review and made the decision not to revise any specifications.

Dated: May 27, 2020.
Andrew D. Sawyers,
Director, Office of Wastewater Management.

[FR Doc. 2020-12036 Filed 6-3-20; 8:45 am]

BILLING CODE 6560-50-P